DEPARTMENT OF DEFENSE

Office of the Secretary

[Docket ID: DoD-2024-OS-0121]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: DoD Mortuary Affairs Forms; DD Form(s) 0565, 3045, 3046, 3047, 3048, 3049, 3050, 3116, 3122; OMB Control Number 0704-0581.

Type of Request: Revision.

Number of Respondents: 252,350.

Responses per Respondent: 1.

Annual Responses: 252,350.

Average Burden per Response: 15 minutes.

Annual Burden Hours: 63,088.

Needs and Uses: The information collection requirement is necessary to obtain and document information related to deceased personnel and their family members. The information collection documents selections made by family members and others as part of the required mortuary case file. As stated in 10 U.S.C. 1481, the DoD may provide for the recovery, statement of recognition for identification purposes, care, and disposition of the remains for active-duty Regulars, Reserve Component members, applicants, trainees, military prisoners, and others. The DoD is further authorized, per 10 U.S.C. 1482 and 10 U.S.C. 1482a, to provide reimbursement, cover expenses, or otherwise provide mortuary services for decedents, including civilian employees serving with the armed forces. Mortuary affairs personnel must document information on the information collections to ensure proper care, transportation, escort, military funeral honors and disposition of remains, as applicable. Depending on the circumstances, a Person Authorized to Direct Disposition (PADD) or person authorized to effect disposition (PAED) may be asked to complete up to six forms. All PADDs will complete the DD Form 3045 but may additionally be asked to provide information on the DD Forms 565, 3046, 3047, 3048, 3049, and/or 3050. The DD Forms 3116 and 3122 are completed by a Service member and a funeral service provider respectively. A description of each form has been provided to clarify under which circumstances each form may be used.

The DD Form 565, “Statement of Recognition of Deceased,” is a form to assist mortuary personnel with the identification of the remains of deceased personnel, family members, civilians, or other personnel that may be in the care of the Department of Defense. Identification of deceased persons is a critical step in providing proper disposition of the remains. Information collected includes information on the respondent and a witness.

The DD Form 3116, “Escort Report,” is a report filed with Service casualty and mortuary affairs offices with information regarding the transportation of human remains of deceased active-duty personnel to their place of interment. The escort also reports on the condition of remains, casket and any incident during transportation to assist the Service casualty and mortuary affairs offices in their support of the person authorized to direct disposition of the remains. The report also informs the Service casualty and mortuary affairs offices of any issue needed to be resolved with the receiving funeral home.

The DD Form 3122, “Military Funeral Honors Request Form,” is an official request for military funeral honors at the funeral or memorial of an eligible deceased veteran. A request for military funeral honors for an eligible veteran must be supported by law. The form will be sent to military funeral honors coordinators for their review, analysis for eligibility, scheduling, and to capture costs to provide the required military funeral honors elements. The form contains contact information for the next-of-kin requesting military funeral honors.

Upon the death of a service member, the PADD is notified by the Service Casualty Office and provided a mortuary briefing. They will complete the DD Form 3045, “Statement of Disposition of Military Remains,” which provides a written declaration as to their intent, wishes, and directions for the Service to ensure the expedition embalming/preparation, restoration, and return of remains of an active-duty service member. The form is presented to the PADD when discussing mortuary entitlements by the Casualty Assistance Officer, Casualty Assistance Calls Officer or Mortuary Officer during the mortuary briefing. A PADD may additionally relinquish their rights as PADD and identify a new PADD to whom the authority to direct disposition passes.

In DD Form 3046, “Disposition of Remains Election Statement Initial Notification of Identified Partial Remains,” the Department documents the PADD's elections about the disposition of partial remains of a service member and how they would like to be notified if additional remains are found. This form was created to allow the family the right to be notified of the condition of the remains and allow them to make the decision to be notified of subsequent additional remains, or to relinquish the disposition of additional remains to the Department. Without this form the family may not have the option to have the Department make disposition of additional remains and would be notified after identification of additional remains.

In DD Form 3047, “Disposition of Remains Election Statement Notification of Subsequently Identified Partial Remains,” the Department documents the PADD's choice about the disposition of identified partial remains of a service member, as well as the notification options of identified additional remains. This form was created to allow the family to make the decision and indicate their desire to be notified of subsequent identification of additional remains, or to relinquish the disposition of additional remains to the Department. Without this form the family would not have the option to have the Department make disposition of additional remains and would be notified of the identification of each additional remains.

DD Form 3048, “Disposition of Organs Retained for Extended Examination,” documents the PADD/PAED decisions about the notification and disposition of organs retained by the Armed Forces Medical Examiner.

DD Form 3049, “Advanced Restorative Art of Remains,” documents the PADD's decision to authorize the service to embalm and perform post-mortem reconstructive surgery on the deceased.

DD Form 3050, “Election for Air Transportation of Remains of Casualties Dying Overseas and Returned Through Dover Air Force Base,” documents the PADD's election for the type of air transportation for the remains of a service member to the receiving funeral home or interment site.

Affected Public: Individuals or households.

Frequency: As required.

Respondent's Obligation: Voluntary.

DoD Clearance Officer: Mr. Reginald Lucas.

Dated: January 3, 2025.
Aaron T. Siegel,
Alternate OSD Federal Register Liaison Officer, Department of Defense.

[FR Doc. 2025-00285 Filed 1-8-25; 8:45 am]

BILLING CODE 6001-FR-P